DEPARTMENT OF TRANSPORTATION

Office of the Secretary

Aviation Proceedings, Agreements Filed the Week Ending October 6, 2006

The following Agreements were filed with the Department of Transportation under the Sections 412 and 414 of the Federal Aviation Act, as amended (49 U.S.C. 1382 and 1384) and procedures governing proceedings to enforce these provisions. Answers may be filed within 21 days after the filing of the application.

Docket Number: OST-2006-26006.

Date Filed: October 2, 2006.

Parties: Members of the International Air Transport Association.

Subject: Mail Vote 513—Resolution 010b, TC3 Japan, Korea-South East Asia, Special Passenger Amending Resolution between Japan, Korea, and South East Asia. Intended effective date: October 9, 2006. (Memo 0998)

Docket Number: OST-2006-26007.

Date Filed: October 6, 2006.

Parties: Members of the International Air Transport Association.

Subject: Mail Vote 510—Resolution 010a, TC3 Within South Asian Subcontinent, Special Passenger Amending Resolution from Pakistan to India (Memo 0997). Intended effective date: October 11, 2006.

Renee V. Wright,
Program Manager, Docket Operations, Federal Register Liaison.

[FR Doc. E6-18753 Filed 11-6-06; 8:45 am]

BILLING CODE 4910-9X-P